DEPARTMENT OF DEFENSE

GENERAL SERVICES ADMINISTRATION

NATIONAL AERONAUTICS AND SPACE ADMINISTRATION

48 CFR Parts 1, 2, 4, 7, 10, 11, 12, 37, 39, and 52

[FAR Case 2021-019; Docket No. FAR-2021-0019; Sequence No. 1]

RIN 9000-AO35

Federal Acquisition Regulation: Standardizing Cybersecurity Requirements for Unclassified Federal Information Systems; Extension of Comment Period

AGENCY: Department of Defense (DoD), General Services Administration (GSA), and National Aeronautics and Space Administration (NASA).

ACTION: Proposed rule; extension of comment period.

SUMMARY: DoD, GSA, and NASA issued a proposed rule on October 3, 2023, proposing to amend the Federal Acquisition Regulation (FAR) to partially implement an Executive Order to standardize cybersecurity contractual requirements across Federal agencies for unclassified Federal information systems, and a statute on improving the Nation's cybersecurity. The deadline for submitting comments is being extended from December 4, 2023, to February 2, 2024, to provide additional time for interested parties to provide comments on the proposed rule.

DATES: For the proposed rule published on October 3, 2023 (88 FR 68402), the deadline to submit comments is extended. Submit comments by February 2, 2024.

ADDRESSES: Submit comments in response to FAR Case 2021-019 to the Federal eRulemaking portal at https://www.regulations.gov by searching for “FAR Case 2021-019”. Select the link “Comment Now” that corresponds with “FAR Case 2021-019”. Follow the instructions provided on the “Comment Now” screen. Please include your name, company name (if any), and “FAR Case 2021-019” on your attached document. If your comment cannot be submitted using https://www.regulations.gov, call or email the points of contact in the FOR FURTHER INFORMATION CONTACT section of this document for alternate instructions.

Instructions: Please submit comments only and cite “FAR Case 2021-019” in all correspondence related to this case. Comments received generally will be posted without change to https://www.regulations.gov, including any personal and/or business confidential information provided. Public comments may be submitted as an individual, as an organization, or anonymously (see frequently asked questions at https://www.regulations.gov/faq). To confirm receipt of your comment(s), please check https://www.regulations.gov, approximately two to three days after submission to verify posting.

FOR FURTHER INFORMATION CONTACT: For clarification of content, Ms. Carrie Moore, Procurement Analyst, at 571-300-5917 or by email at carrie.moore@gsa.gov. For information pertaining to status, publication schedules, or alternate instructions for submitting comments if https://www.regulations.gov cannot be used, contact the Regulatory Secretariat Division at 202-501-4755 or GSARegSec@gsa.gov. Please cite FAR Case 2021-019.

SUPPLEMENTARY INFORMATION:

I. Background

DoD, GSA, and NASA published a proposed rule in the Federal Register at 88 FR 68402 on October 3, 2023. The comment period is extended to February 2, 2024, to allow additional time for interested parties to develop comments on the rule.

List of Subjects in 48 CFR Parts 1, 2, 4, 7, 10, 11, 12, 37, 39, and 52

Government procurement.

William F. Clark,
Director, Office of Government-wide Acquisition Policy, Office of Acquisition Policy, Office of Government-wide Policy.

[FR Doc. 2023-24026 Filed 10-31-23; 8:45 am]

BILLING CODE 6820-EP-P